DEPARTMENT OF TRANSPORTATION

Federal Aviation Administration

14 CFR Parts 36 and 91

[Docket No. FAA-2003-16523]

RIN 2120-AH99

Stage 4 Aircraft Noise Standards; Correction

AGENCY: Federal Aviation Administration (FAA), DOT.

ACTION: Final rule; correction.

SUMMARY: This document makes corrections to the final rule published in the Federal Register on July 5, 2005 (70 FR 38742). This document adds two assigned amendment numbers. It also clarifies the Flight Manual Statement of Chapter for equivalency required by § 36.105.

DATES: This correction is effective July 20, 2005.

FOR FURTHER INFORMATION CONTACT: Laurette Fisher, Office of Environment and Energy (AEE-100), Federal Aviation Administration, 800 Independence Avenue, SW., Washington, DC 20591; telephone (202) 267-3561; facsimile (202) 267-5594.

Correction

In the final rule “Stage 4 Aircraft Noise Standards” published in the Federal Register on July 5, 2005 (70 FR 38742), make the following corrections:

1. On page 38742, in the first column, in the fourth line of the heading, add amendment numbers as follows: [Docket No. FAA-2003-16526; Amendment Nos. 36-26, 91-288]

§ 36.105 [Corrected]

2. On page 38749, in the second column, in the paragraph entitled “§ 36.105 Flight Manual Statement of Chapter 4 equivalency”, eleventh line, change “part 36 Amendment (insert part 36 amendment number)” to read “part 36, Amendment 36 (insert part 36 amendment to which the airplane was certificated)”.

Issued in Washington, DC on July 14, 2005.
Anthony F. Fazio,
Director, Office of Rulemaking.

[FR Doc. 05-14248 Filed 7-19-05; 8:45 am]

BILLING CODE 4910-13-P